DEPARTMENT OF JUSTICE

Notice of Lodging of Proposed Consent Decree Under the Clean Air Act

On July 10, 2013, the Department of Justice lodged a proposed consent decree with the United States District Court for the Southern District of Texas in the lawsuit entitled United States v. Shell Oil Co., et al., Civil Action No. 4:13-cv-2009.

In the Complaint, the United States alleges that Shell Oil Co. and two of its affiliated partnerships (“Shell”) violated, at their petroleum refinery and chemical plant in Deer Park, Texas, various provisions of the Clean Air Act, 42 U.S.C. 7401 et seq.; the Comprehensive Environmental Response, Compensation and Liability Act, 42 U.S.C. 9609(c) and 9613(b); and the Emergency Planning and Community Right-To-Know Act, 42 U.S.C. 11045(b)(3).

Under the consent decree, Shell will implement innovative pollution control technologies to reduce emissions of sulfur dioxide, volatile organic compounds (“VOCs”), and hazardous air pollutants from the twelve flares it operates at its Deer Park facility. Shell has agreed to limit the waste gas it sends to its flares by installing and/or operating systems that will recover and recycle waste gas back into plant processes (i.e., flare gas recovery) and Shell has agreed to an overall “cap” on the volume of waste gas it flares. For waste gas that is flared, Shell will operate numerous monitoring systems and comply with several operating parameters to ensure that the flares adequately combust the gases. In addition, at a cost of between $15 and $60 million, Shell will undertake numerous activities at its wastewater treatment plant, its tanks, and its benzene extraction unit to reduce VOC emissions and mitigate the effect of alleged past excess VOC emissions. Shell also will install a $1 million state-of-the-art monitor at its fenceline to record benzene emissions and make the results available to the public, as well as spend $200,000 to retrofit publicly-owned diesel vehicles in the vicinity of the plant to reduce emissions. Finally, Shell will pay a civil penalty of $2.6 million.

The publication of this notice opens a period of public comment on the consent decree. Comments should be addressed to the Acting Assistant Attorney General, Environment and Natural Resources Division, and should refer to United States v. Shell Oil Co., et al., D.J. Ref. No. 90-5-2-1-09388/1. All comments must be submitted no later than thirty (30) days after the publication date of this notice. Comments may be submitted either by email or by mail:

To submit comments— | Send them to—
By email | pubcomment-ees.enrd@usdoj.gov.
By mail | Acting Assistant Attorney General, U.S. DOJ—ENRD, P.O. Box 7611, Washington, DC 20044-7611.

During the public comment period, the consent decree may be examined and downloaded at this Department of Justice Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check in the amount of $62.50 (25 cents per page reproduction cost) payable to the United States Treasury.

Maureen M. Katz,
Assistant Section Chief, Environmental Enforcement Section, Environment and Natural Resources Division.

[FR Doc. 2013-16969 Filed 7-15-13; 8:45 am]

BILLING CODE 4410-15-P